INTERNATIONAL TRADE COMMISSION

[Investigation Nos. 701-TA-566 and 731-TA-1342 (Final)]

Softwood Lumber Products From Canada; Determinations

On the basis of the record ¹ developed in the subject investigations, the United States International Trade Commission (“Commission”) determines, pursuant to the Tariff Act of 1930 (“the Act”), that an industry in the United States is materially injured by reason of imports of softwood lumber products from Canada, provided for in subheadings 4407.10.01, 4409.10.05, 4409.10.10, 4409.10.20, 4409.10.90, 4418.90.10 of the Harmonized Tariff Schedule of the United States, that have been found by the Department of Commerce (“Commerce”) to be subsidized by the government of Canada and sold in the United States at less than fair value (“LTFV”).²

¹ The record is defined in sec. 207.2(f) of the Commission's Rules of Practice and Procedure (19 CFR 207.2(f)).

² The Commission made a negative finding concerning critical circumstances with regard to LTFV imports of this product.

Background

The Commission, pursuant to sections 705(b) and 735(b) of the Act (19 U.S.C. 1671d(b) and 19 U.S.C. 1673d(b)), instituted these investigations effective November 25, 2016, following receipt of a petition filed with the Commission and Commerce by the Committee Overseeing Action for Lumber International Trade Investigations or Negotiations (“COALITION”).³ The final phase of the investigations was scheduled by the Commission following notification of preliminary determinations by Commerce that imports of certain softwood lumber from Canada were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on July 13, 2017 (82 FR 32376). The hearing was held in Washington, DC, on September 12, 2017, and all persons who requested the opportunity were permitted to appear in person or by counsel.

³ The COALITION is an ad hoc association whose members are: U.S. Lumber Coalition, Inc., Collum's Lumber Products, L.L.C., Hankins, Inc., Potlach Corp., Rex Lumber Company, Seneca Sawmill Company, Sierra Pacific Industries, Stimson Lumber Company, Swanson Group, Weyerhaeuser Company, Carpenters Industrial Council, Giustina Land and Timber Company, Sullivan Forestry Consultants, Inc. COALITION is “an association, a majority of whose members is composed of interested parties” described in Section 771(9)(C) of the Act, 19 U.S.C. 1677(9)(C).

The Commission made these determinations pursuant to sections 705(b) and 735(b) of the Act (19 U.S.C. 1671d(b) and 19 U.S.C. 1673d(b)). It completed and filed its determinations in these investigations on December 22, 2017. The views of the Commission are contained in USITC Publication 4749 (December 2017), entitled Softwood Lumber Products from Canada: Investigation Nos. 701-TA-566 and 731-TA-1342 (Final)).

By order of the Commission.
Issued: December 22, 2017.
Lisa R. Barton,
Secretary to the Commission.

[FR Doc. 2017-28074 Filed 12-27-17; 8:45 am]

BILLING CODE 7020-02-P